DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of August 8, 2016 through August 19, 2016.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) A significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) The workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
91,199 | Gibson County Coal LLC, Alliance Resource Partners L.P., Custom Staffing | Princeton, IN | December 4, 2014.
91,454 | Allegheny Ludlum, LLC, ATI Flat Rolled Products, Latrobe Operations, Allegheny Technologies Inc | Latrobe, PA | February 9, 2015.
91,512 | Jaya Apparel Group LLC, 24 Seven Staffing Inc., SBH Fashion Inc. and Career Group Inc | Vernon, CA | February 24, 2015.
91,517 | Encore Repair Services, LLC, Encore Repair Holdings, LLC, Select Staffing | Simi Valley, CA | February 3, 2015.
91,826 | US Synthetic Corporation, Dover Corporation | Orem, UT | May 19, 2015.
91,851 | TRW Automotive U.S. LLC, Action Electric, Adecco, Butler America, Tradesman International | Lafayette, IN | May 25, 2015.
92,020 | American Light Bulb Manufacturing Inc | Mullins, SC | July 15, 2015.

The following certifications have been issued. The requirements of Section 222(a)(2)(B) (shift in production or services) of the Trade Act have been met.

TA-W No. | Subject firm | Location | Impact date
90,288 | Cartus Corporation, Realogy Services Group, LLC | Memphis, TN | January 1, 2014.
90,317 | Nokia Solutions and Networks US LLC, Nokia Solutions and Networks Holdings USA, Inc | Arlington Heights, IL | January 1, 2014.
91,212 | Amdocs, Inc., Program and Business Services Division, Rose, Next Gen, etc | Richardson, TX | December 10, 2014.
91,413 | First Advantage Background Services Corporation, STG-Fairway U.S., LLC | St. Petersburg, FL | January 29, 2015.
91,500 | Orica USA, Accounts Payable/Receivable Department | Georgetown, KY | February 22, 2015.
91,548 | Sensata Technologies, Incorporated, Industrial Sensing Business Division, Sensata Technologies Holding Company | Everett, WA | March 3, 2015.
91,700 | Manitowoc FSG Operations, LLC, Manitowoc Foodservice, Inc., ABR Employment Services, etc | Manitowoc, WI | May 22, 2016.
91,810 | National Oilwell Varco LP, Rig Systems, Offshore Division, iSymphony LLC | Houston, TX | May 13, 2015.
91,828 | Waste Management National Services, Inc., Centralized Billing Center, Waste Management Holdings, Inc., Robert Half | Phoenix, AZ | May 19, 2015.
91,844 | MediGain, LLC, Formerly Millennium Practice Management Associates | Upper Saddle River, NJ | May 24, 2015.
91,844A | MediGain, LLC, Formerly Millennium Practice Management Associates, Randstad | Plano, TX | May 24, 2015.
91,857 | Antenex, Inc., Intrastructure Antennas Systems Business Unit, Laird Technologies, Inc | Schaumburg, IL | May 25, 2015.
91,878 | TRUMPF Photonics, Inc., Ultra-Precision Machining (UPM) Division, TRUMPF Group | Cranbury, NJ | May 31, 2015.
91,894 | Brake Parts Inc., LLC, BPI Holdings International, Inc., Adecco, Select Staffing, and Cornerstone | Chowchilla, CA | June 8, 2015.
91,933 | Panasonic Avionics Corporation, Dallas Repair Station, Aerotek | Coppell, TX | June 17, 2015.
91,971 | InnoVista Sensors Americas, Inc., InnoVista Sensors Ltd, Custom Sensors and Technologies, Inc | Thousand Oaks, CA | June 28, 2015.
91,980 | American Express Travel Related Services Company, Inc., Credit Fraud Risk Controllership Group, American Express Company | Phoenix, AZ | July 3, 2015.
91,999 | Fluke Corporation, Pacific Laser Systems Division, Adecco | San Rafael, CA | July 7, 2015.
92,003 | Hewlett Packard Enterprise, ES Applications Delivery Management Division | Plano, TX | July 8, 2015.
92,004 | Atlas Copco Hurricane LLC, Atlas Copco Portable Energy Division | Franklin, IN | July 11, 2015.
92,007 | DSI Underground Systems, LLC, Frank Calandra, Inc | Martinsburg, WV | July 11, 2015.
92,015 | Mattel, Inc., Mattel Global Shared Service Solutions (MGSSS), Personnel Resources, etc | East Aurora, NY | July 13, 2015.
92,021 | Sanford LP, Newell Brands, Lifestyle Temp Agency | Shelbyville, TN | July 18, 2015.
92,042 | Shimadzu USA Manufacturing, Inc., Shimadzu America, Inc., Randstad USA, Selec-Temp Employment Services, etc | Canby, OR | July 21, 2015.
92,043 | SeaChange International, Inc., In-Home Division | Portland, OR | July 21, 2015.
92,043A | SeaChange International, Inc., In-Home Division, Tech Mahindra, Capstone Consulting, Progressive Solutions | Milpitas, CA | July 21, 2015.
92,044 | Northwest Pipe Company, Aerotek Commercial Staffing | Denver, CO | July 21, 2015.
92,071 | Caterpillar High Performance Extrusions Group, Industry Solutions, Components, and Distribution Division, etc | Oxford, MS | July 28, 2015.
92,071A | Caterpillar High Performance Extrusions Group, Industry Solutions, Components, and Distribution Division, etc | Memphis, TN | July 28, 2015.
92,075 | SONA BLW Precision Forge, Inc., SONA AUTOCOMP USA LLC, Executive Personnel Group | Selma, NC | July 29, 2015.

The following certifications have been issued. The requirements of Section 222(b) (supplier to a firm whose workers are certified eligible to apply for TAA) of the Trade Act have been met.

TA-W No. | Subject firm | Location | Impact date
92,022 | Indiana Tool Manufacturing Company, Inc | Plymouth, IN | July 19, 2015.

Negative Determinations for Worker Adjustment Assistance

In the following cases, the investigation revealed that the eligibility criteria for worker adjustment assistance have not been met for the reasons specified.

The investigation revealed that the criterion under paragraph (a)(1), or (b)(1) (employment decline or threat of separation) of section 222 has not been met.

TA-W No. | Subject firm | Location | Impact date
91,791 | Woodard Curran, @Work | Madison, ME

The investigation revealed that the criteria under paragraphs (a)(2)(A) (increased imports) and (a)(2)(B) (shift in production or services to a foreign country) of section 222 have not been met.

TA-W No. | Subject firm | Location | Impact date
90,280 | SCI Box, LLC, Oasis Outsourcing | Joplin, MO
90,322 | Jaylor Dental Solutions, Inc | Beacon, NY
91,417 | AK Coal Resources, Inc., AK Steel Corporation | Friedens, PA
91,489 | TeleTech Services Corporation, TeleTech Holdings, Inc | Springfield, MO
91,522 | Primetals Technologies USA LLC, Primetals Technologies USA Holdings, Inc., COR-Tech, LLC, etc | Worchester, MA
91,525 | Teknetix Inc., Nolans Services, LLC | Parkersburg, WV
91,533 | Clean Harbors Environmental Services | San Leon, TX
91,545 | Covanta Maine, LLC, Covanta, Manpower | Jonesboro, ME
91,545A | Covanta Maine, LLC, Covanta, Manpower | West Enfield, ME
91,625 | Preferred Podiatry Management, LLC | Northbrook, IL
91,646 | Matrox International Corporation, Matrox Electronic Systems LTD, Westaff | Plattsburgh, NY
91,877 | GT Exhaust, Inc., International Acoustics Company Ltd | Lincoln, NE
91,942 | SM Energy Company, Consultants Corporation | Tulsa, OK
91,990 | Quality Saws and Supplies LLC | West Enfield, ME

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
90,325 | Amsco, Limited | Cranston, RI
92,035 | Federal Republic of Germany, Aircraft Mechanics Division | Holloman Air Force Base, NM
92,038 | Berry Plastics | Dunkirk, NY
92,047 | TechMahindra | Overland Park, KS

The following determinations terminating investigations were issued because the petitions are the subject of ongoing investigations under petitions filed earlier covering the same petitioners.

TA-W No. | Subject firm | Location | Impact date
91,574 | Sensata Technologies, Inc | Everett, WA
91,704 | ITT Corporation—Interconnect Solutions, ITT Cannon LLC, ITT Corporation | Santa Ana, CA

I hereby certify that the aforementioned determinations were issued during the period of August 8, 2016 through August 19, 2016. These determinations are available on the Department's Web site https://www.doleta.gov/tradeact/taa/taa_search_form.cfm under the searchable listing determinations or by calling the Office of Trade Adjustment Assistance toll free at 888-365-6822.

Signed at Washington, DC, this 7th day of October 2016.
Hope D. Kinglock,
Certifying Officer, Office of Trade Adjustment Assistance.

[FR Doc. 2016-27001 Filed 11-8-16; 8:45 am]

BILLING CODE 4510-FN-P